DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission, DOE.

DATE AND TIME: June 18, 2015, 10:00 a.m.

PLACE: Room 2C, 888 First Street NE., Washington, DC 20426.

STATUS: OPEN.

MATTERS TO BE CONSIDERED: Agenda.

* NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1017th—Meeting, Regular Meeting
[June 18, 2015 10:00 a.m.]
Item No | Docket No. | Company
ADMINISTRATIVE
A-1 | AD02-1-000 | Agency Business Matters.
A-2 | AD02-7-000 | Customer Matters, Reliability, Security and Market Operations.
ELECTRIC
E-1 | ER14-2464-002 | Midcontinent Independent System Operator, Inc.
| EL15-36-000 | Otter Tail Power Company v. Midcontinent Independent System Operator, Inc.
E-2 | RM15-16-000 | Transmission Operations Reliability Standards and Interconnection Reliability Operations and Coordination Reliability Standards.
E-3 | RM15-7-000 | Revisions to Emergency Operations Reliability Standards.
| RM15-12-000 | Revisions to Undervoltage Load Shedding Reliability Standards.
| RM15-13-000 | Revisions to the Definition of “Remedial Action Scheme” and Related Reliability Standards.
E-4 | RM15-5-000 | Revised Exhibit Submission Requirements for Commission Hearings.
E-5 | RR15-8-000 | North American Electric Reliability Corporation.
E-6 | ER12-1338-001 | Duke Energy Corporation and Progress Energy, Inc.
| ER12-1347-002 | Carolina Power & Light Co.
E-7 | ER15-3-001 | PJM Interconnection, L.L.C. and Commonwealth Edison Company.
E-8 | ER15-1137-000 | ISO New England Inc.
E-9 | ER14-781-002 | Southwest Power Pool, Inc.
| ER14-781-003 |
E-10 | EL15-61-000 | Benjamin Riggs v. Rhode Island Public Utilities Commission.
E-11 | EL14-46-000 | Ameren Services Company.
E-12 | EL15-18-000 | Consolidated Edison Company of New York, Inc. v. PJM Interconnection, L.L.C.
| ER14-972-001 | PJM Interconnection, L.L.C.
| ER14-972-002 (not consolidated) |
E-13 | OMITTED |
E-14 | EL15-43-000 | Delta-Montrose Electric Association.
E-15 | EL09-63-000 | City of Orangeburg, South Carolina.
E-16 | EL15-6-001 | PáTu Wind Farm, LLC v. Portland General Electric Company.
| QF06-17-003 | PáTu Wind Farm, LLC.
E-17 | EL11-63-001 | Louisiana Public Service Commission v. Entergy Corporation; Entergy Services, Inc.; Entergy Louisiana, LLC; Entergy Arkansas, Inc.; Entergy New Orleans, Inc.; Entergy Mississippi, Inc.; Entergy Gulf States Louisiana, L.L.C.; and Entergy Texas, Inc.
E-18 | OMITTED |
E-19 | ER15-696-000 | PJM Interconnection, L.L.C.
E-20 | EL15-45-000 | Arkansas Electric Cooperative Corporation; Mississippi Delta Energy Agency; Clarksdale Public Utilities Commission; Public Service Commission of Yazoo City; and Hoosier Energy Rural Electric Cooperative, Inc. v. ALLETE, Inc.; Ameren Illinois Company; Ameren Missouri; Ameren Transmission Company of Illinois; American Transmission Company LLC; Cleco Power LLC; Duke Energy Business Services, LLC; Entergy Arkansas, Inc.; Entergy Gulf States Louisiana, LLC; Entergy Louisiana, LLC; Entergy Mississippi, Inc.; Entergy New Orleans, Inc.; Entergy Texas, Inc.; Indianapolis Power & Light Company; International Transmission Company; ITC Midwest LLC; Michigan Electric Transmission Company, LLC; MidAmerican Energy Company; Montana-Dakota Utilities Co.; Northern Indiana Public Service Company; Northern States Power Company-Minnesota; Northern States Power Company-Wisconsin; Otter Tail Power Company; and Southern Indiana Gas & Electric Company.
HYDRO
H-1 | CD15-18-001 | Soldier Canyon Filter Plant.
H-2 | P-14581-001 | Turlock Irrigation District and Modesto Irrigation District.
H-3 | P-13212-004 | Kenai Hydro, LLC.
CERTIFICATES
C-1 | CP14-548-000 CP14-547-000 | Natural Gas Pipeline Company of America LLC Devon Gas Services, L.P.

Issued: June 11, 2015.
Kimberly D. Bose,
Secretary.

A free webcast of this event is available through www.ferc.gov. Anyone with Internet access who desires to view this event can do so by navigating to www.ferc.gov' s Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2015-14876 Filed 6-12-15; 4:15 pm]

BILLING CODE 6717-01-P